DEPARTMENT OF DEFENSE

48 CFR Part 225

[DFARS Case 2004-D002]

Defense Federal Acquisition Regulation Supplement; Polyacrylonitrile Carbon Fiber—Restriction to Domestic Sources

AGENCY: Department of Defense (DoD).

ACTION: Final rule.

SUMMARY: DoD has issued a final rule amending the Defense Federal Acquisition Regulation Supplement (DFARS) to extend the ending date for phasing out domestic source restrictions on the acquisition of polyacrylonitrile (PAN) carbon fiber. The ending date is extended from May 31, 2005, to May 31, 2006.

EFFECTIVE DATE: February 7, 2005.

FOR FURTHER INFORMATION CONTACT: Ms. Amy Williams, Defense Acquisition Regulations Council, OUSD(AT&L)DPAP(DAR), IMD 3C132, 3062 Defense Pentagon, Washington, DC 20301-3062. Telephone (703) 602-0328; facsimile (703) 602-0350. Please cite DFARS Case 2004-D002.

SUPPLEMENTARY INFORMATION:

A. Background

This final rule extends the ending date for phasing out domestic source restrictions on the acquisition of PAN carbon fiber from May 31, 2005, to May 31, 2006. The prescription for use of the clause at DFARS 252.225-7022, Restriction on Acquisition of Polyacrylonitrile (PAN) Carbon Fiber, is amended to require inclusion of the clause in solicitations and contracts for major systems issued on or before May 31, 2006, if the system is not yet in development and demonstration.

The aerospace industry requested the extension to provide U.S. companies sufficient time to maintain the industrial and technological capability to support a critical material used in advanced aerospace weapons programs. In addition, the extension is consistent with Section 832 of the National Defense Authorization Act for Fiscal Year 2005 (Pub. L. 108-375), which requires a delay in phase-out of the restriction until DoD performs an assessment of the PAN carbon fiber industry and submits the resulting report to Congress.

DoD published a proposed rule at 69 FR 35567 on June 25, 2004. DoD received no comments on the proposed rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because there are no known domestic small business manufacturers of PAN carbon fiber.

C. Paperwork Reduction Act

The Paperwork Reduction Act does not apply because the rule does not impose any information collection requirements that require the approval of the Office of Management and Budget under 44 U.S.C. 3501, et seq.

List of Subjects in 48 CFR Part 225

Government procurement.

Michele P. Peterson,
Editor, Defense Acquisition Regulations System.

Therefore, 48 CFR Part 225 is amended as follows:

1. The authority citation for 48 CFR Part 225 continues to read as follows:

Authority: 41 U.S.C. 421 and 48 CFR Chapter 1.

PART 225—FOREIGN ACQUISITION

2. Section 225.7103-1 is amended by revising the second sentence to read as follows:

225.7103-1 Policy.

* * * DoD is phasing out the restrictions over the period ending May 31, 2006. * * *

3. Section 225.7103-3 is revised to read as follows:

225.7103-3 Contract clause.

Use the clause at 252.225-7022, Restriction on Acquisition of Polyacrylonitrile (PAN) Carbon Fiber, in solicitations and contracts for major systems issued on or before May 31, 2006, if the system is not yet in engineering and manufacturing development (milestone B as defined in DoDI 5000.2).

[FR Doc. 05-2171 Filed 2-4-05; 8:45 am]

BILLING CODE 5001-08-P